DEPARTMENT OF ENERGY

Office of International Regimes and Agreements; Proposed Subsequent Arrangement

AGENCY: Department of Energy.

ACTION: Subsequent arrangement.

SUMMARY: This notice has been issued under the authority of section 131 of the Atomic Energy Act of 1954, as amended (42 U.S.C. 2160). The Department is providing notice of a proposed subsequent arrangement under the Agreement for Cooperation Between the United States of America and the Government of the Argentine Republic Concerning Peaceful Uses of Nuclear Energy and the Agreement Between the United States of America and Australia Concerning Peaceful Uses of Nuclear Energy.

This subsequent arrangement concerns the retransfer of eleven fission counters from the Comision Nacional De Energia Atomica (CNEA) to the Australian Nuclear Science and Technology Organization (ANSTO) in Lucas Heights, Australia. Five of the fission counters contain 0.54 grams of U.S. obligated uranium, 0.48 grams in the isotope U-235. The other six fission counters contain 0.46 grams of U.S. obligated uranium, 0.41 grams in the isotope U-235. The material, which is currently in the form uranium ore concentrates (U3O8) and is located at CNEA's Instrumentation and Control Department, will be transferred to ANSTO for use at the new Australian Nuclear Research Reactor. CNEA originally obtained the material from the United States under a general license.

In accordance with section 131 of the Atomic Energy Act of 1954, as amended, we have determined that this subsequent arrangement is not inimical to the common defense and security.

This subsequent arrangement will take effect no sooner than fifteen days after the date of publication of this notice.

For the Department of Energy.
Richard Goorevich,
Director, Office of International Regimes and Agreements.

[FR Doc. E6-3300 Filed 3-7-06; 8:45 am]

BILLING CODE 6450-01-P